DEPARTMENT OF JUSTICE

Notice of Lodging of Proposed Consent Decree for Natural Resource Damages Under the Oil Pollution Act

On April 19, 2022, the Department of Justice lodged a proposed consent decree with the United States District Court for the Eastern District of Louisiana in the lawsuit entitled United States v. LLOG Exploration Offshore, L.L.C., Civil Action No. 2:23-cv-01301-WBV-KWR.

The United States filed this lawsuit with respect to a crude oil spill that occurred at the Mississippi Canyon Block 209 subsea oil production system (“MC 209”) in the Gulf of Mexico beginning on or about October 11, 2017. The oil spilled from a fractured subsea wellhead jumper that connected the MC 209 Well to a subsea manifold. The incident lasted 32 hours and resulted in an estimated discharge of 16,000 barrels of oil (672,000 gallons) into the waters of the Gulf of Mexico.

The Complaint seeks the recovery of damages for injury to, destruction of, loss of, or loss of use of natural resources, plus the unreimbursed costs of assessing such damages (collectively, “NRD”), under Section 1002 of the Oil Pollution Act (“OPA”), 33 U.S.C. 2702-2762. Under the proposed consent decree, Defendant will pay the United States $3.1 million and, in return, receive a covenant not to sue under OPA for NRD relating to the MC 209 spill, subject to specified reservations and reopeners.

The publication of this notice opens a period for public comment on the proposed consent decree. Comments should be addressed to the Assistant Attorney General, Environment and Natural Resources Division, and should refer United States v. LLOG Exploration Offshore, L.L.C., D.J. Ref. No. 90-5-1-1-12640. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon written request and payment of reproduction costs. Please mail your request and payment to: Consent Decree Library, U.S. DOJ—ENRD, P.O. Box 7611, Washington, DC 20044-7611.

Please enclose a check or money order for $5.75 (25 cents per page reproduction cost) payable to the United States Treasury.

Thomas Carroll,
Assistant Section Chief, Environmental Enforcement Section, Environment and Natural Resources Division.

[FR Doc. 2023-08656 Filed 4-24-23; 8:45 am]

BILLING CODE 4410-15-P